DEPARTMENT OF ENERGY

Federal Energy Regulatory Commission

Combined Notice of Filings

Take notice that the Commission has received the following Natural Gas Pipeline Rate and Refund Report filings:

Filings Instituting Proceedings

Docket Numbers: RP12-609-000.

Applicants: Texas Gas Transmission, LLC.

Description: Texas Gas Transmission, LLC's Operational Purchases & Sales Report.

Filed Date: 4/30/13.

Accession Number: 20130430-5046.

Comments Due: 5 p.m. ET 5/5/14.

Docket Numbers: RP14-569-000.

Applicants: Millennium Pipeline Company, LLC.

Description: RAM 2014—Compliance Filing.

Filed Date: 4/29/14.

Accession Number: 20140429-5213.

Comments Due: 5 p.m. ET 5/12/14.

Docket Numbers: RP14-782-000.

Applicants: Gulf South Pipeline Company, LP.

Description: Cap Rel Neg Rate Agmts (QEP 37657 to Texla 42401; BP 42402, 42403) to be effective 5/1/2014.

Filed Date: 4/29/14.

Accession Number: 20140429-5069.

Comments Due: 5 p.m. ET 5/12/14.

Docket Numbers: RP14-783-000.

Applicants: Elba Express Company, L.L.C.

Description: Fuel Tracker Filing—2014 to be effective 6/1/2014.

Filed Date: 4/29/14.

Accession Number: 20140429-5076.

Comments Due: 5 p.m. ET 5/12/14.

Docket Numbers: RP14-784-000.

Applicants: Texas Eastern Transmission, LP.

Description: TETLP Reverse Flow Filing to be effective 6/1/2014.

Filed Date: 4/29/14.

Accession Number: 20140429-5268.

Comments Due: 5 p.m. ET 5/12/14.

Docket Numbers: RP14-785-000.

Applicants: Elba Express Company, L.L.C.

Description: Map Update—2014 to be effective 6/1/2014.

Filed Date: 4/29/14.

Accession Number: 20140429-5290.

Comments Due: 5 p.m. ET 5/12/14.

Docket Numbers: RP14-786-000.

Applicants: Horizon Pipeline Company, L.L.C.

Description: Nicor Gas Negotiated Rate to be effective 5/1/2014.

Filed Date: 4/29/14.

Accession Number: 20140429-5318.

Comments Due: 5 p.m. ET 5/12/14.

Docket Numbers: RP14-787-000.

Applicants: ANR Pipeline Company.

Description: Cashout 2014 to be effective 6/1/2014.

Filed Date: 4/30/14.

Accession Number: 20140430-5028.

Comments Due: 5 p.m. ET 5/12/14.

Docket Numbers: RP14-788-000.

Applicants: Gulf South Pipeline Company, LP.

Description: Cap Rel Neg Rate Agmt (JW 34690 to QWest 42411) to be effective 5/1/2014.

Filed Date: 4/30/14.

Accession Number: 20140430-5049.

Comments Due: 5 p.m. ET 5/12/14.

Docket Numbers: RP14-789-000.

Applicants: ETC Tiger Pipeline, LLC.

Description: Fuel Filing on 04-30-14 to be effective 6/1/2014.

Filed Date: 4/30/14.

Accession Number: 20140430-5050.

Comments Due: 5 p.m. ET 5/12/14.

Docket Numbers: RP14-790-000.

Applicants: Fayetteville Express Pipeline LLC.

Description: Fayetteville Express Pipeline LLC submits tariff filing per 154.204: Fuel Filing on 4-30-2014 to be effective 6/1/2014.

Filed Date: 4/30/14.

Accession Number: 20140430-5057.

Comments Due: 5 p.m. ET 5/12/14.

Docket Numbers: RP14-791-000.

Applicants: Ozark Gas Transmission, L.L.C.

Description: Ozark Gas Transmission, L.L.C. submits tariff filing per 154.204: Munich Re Trading Negotiated Rate 5-1-2014 to be effective 5/1/2014.

Filed Date: 4/30/14.

Accession Number: 20140430-5080.

Comments Due: 5 p.m. ET 5/12/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 30, 2014.
Kimberly D. Bose,
Secretary.

[FR Doc. 2014-10703 Filed 5-8-14; 8:45 am]

BILLING CODE 6717-01-P